DEPARTMENT OF HEALTH AND HUMAN SERVICES

Centers for Disease Control and Prevention

Advisory Committee to the Director (ACD), Centers for Disease Control and Prevention (CDC)

In accordance with section 10(a)(2) of the Federal Advisory Committee Act (Pub. L. 92-463), the Centers for Disease Control and Prevention (CDC) announces the following meeting of the aforementioned committee:

Time and Date: 8:30 a.m.-3:00 p.m. (EDT), October 23, 2014.

Place: CDC, Building 21, Rooms 1204 A/B, 1600 Clifton Road NE., Atlanta, Georgia 30333

Status: Open to the public, limited only by the space and phone lines available. The meeting room accommodates approximately 50 people. (Advance registration for in-person participation is required by October 16, 2014.) The public is welcome to participate during the public comment period, which is tentatively scheduled from 2:40 p.m. to 2:45 p.m. This meeting will also be available by:

Teleconference: Please dial (877) 930-8819 and enter code 1579739.

Web links: Windows Media: (Closed captioning will be available) http://wm.onlinevideoservice.com/CDC1

Flash: http://www.onlinevideoservice.com/clients/CDC/?mount=CDC3.

If you are unable to connect using the link, copy and paste the link into your Web browser. For technical support please call: (404) 639-3737.

Purpose: The committee will provide advice to the CDC Director on strategic and other broad issues facing CDC.

Matters for Discussion: The Advisory Committee to the Director will receive updates from the State, Tribal, Local and Territorial Subcommittee; the Health Disparities Subcommittee, the Global Workgroup, the Internal and External Laboratory Safety Workgroups, and the Public Health—Health Care Collaboration Workgroup, the Ebola response, as well as an update from the CDC Director. Agenda items are subject to change as priorities dictate.

For More Information Contact: Carmen Villar, MSW, Designated Federal Officer, ACD, CDC, 1600 Clifton Road, NE., M/S D-14, Atlanta, Georgia 30333. Telephone (404) 639-7158, Email: GHickman@cdc.gov. The deadline to register for in-person attendance at this meeting is October 16, 2014. To register, please send an email to GHickman@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2014-23054 Filed 9-26-14; 8:45 am]

BILLING CODE 4163-18-P